DEPARTMENT OF HOMELAND SECURITY

Customs and Border Protection

Agency Information Collection Activities: Proposed Collection; Comment Request

Action: 30-day notice of information collection under review: Application—Checkpoint Pre-enrolled Access Lane; Form I-866.

The Department of Homeland Security (DHS), U.S. Customs and Border Protection (CBP), has submitted the following information collection request in the Office of Management and Budget (OMB) for review and clearance in accordance with the Paperwork Reduction Act of 1995. The information collection was previously published in the Federal Register on September 25, 2003 at 68 FR 55407. The notice allowed for a 60-day public comment period. The DHS has received no public comment on this proposed information collection.

The purpose of this notice is to allow an additional 30 days for public comments. Comments are encouraged and will be accepted until January 20, 2004. This process is conducted in accordance with 5 CFR 1320.10.

Written comments and/or suggestions regarding the items contained in this notice, especially regarding the estimated public burden and associated response time, should be directed to the Office of Management and Budget (OMB), Office of Information and Regulatory Affairs, Attention: Department of Homeland Security Desk Officer, Room 10235, 725-17th Street, NW., Washington, DC 20530. You may fax comments to the OMB at 202-395-5806.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Application-Checkpoint Pre-enrolled Access Lane.

(3) Agency form number, if any, and the applicable component of the Department of Homeland Security sponsoring the collection: Form I-866. U.S. Customs and Border Protection.

(4) Affected public who will be asked or required to respond, as well as a brief abstract: Primary individual or households. The information collected on this form will be used by the DHS to determine eligibility for participation in the Checkpoint Pre-enrolled Access Lane (PAL) program for persons and vehicles at immigration checkpoints within the United States.

(5) An estimate of the total number of respondents and the amount of time estimated for an average respondent to respond: 12,500 responses at 32 minutes (53 hours) per response.

(6) An estimate of the total public burden (in hours) associated with the collection: 6,625 annual burden hours.

If you have additional comments, suggestions, or need a copy of the proposed information collection instrument with instructions, or additional information, please contact Richard A. Sloan 202-514-3291, Director, Regulations and Forms Services Division, Department of Homeland Security, Room 4304, 425 I Street, NW., Washington, DC 20536. Additionally, comments and/or suggestions regarding the item(s) contained in this notice, especially regarding the estimated public burden and associated response time may also be directed to Mr. Richard A. Sloan.

If additional information is required contact: Mr. Steve Cooper, PRA Clearance Officer, Department of Homeland Security, Office of the Chief Information Officer, Regional Office Building 3, 7th and D Streets, SW., Suite 4636-26, Washington, DC 20202.

Dated: December 12, 2003.
Richard A. Sloan,
Department Clearance Officer, Department of Homeland Security, U.S. Immigration and Custom Enforcement.

[FR Doc. 03-31286 Filed 12-18-03; 8:45 am]

BILLING CODE 4410-10-M